DEPARTMENT OF HEALTH AND HUMAN SERVICES

Centers for Disease Control and Prevention

Advisory Committee to the Director (ACD), Centers for Disease Control and Prevention—State, Tribal, Local and Territorial (STLT) Subcommittee

In accordance with section 10(a)(2) of the Federal Advisory Committee Act (Pub. L. 92-463), the Centers for Disease Control and Prevention (CDC) announces the following meeting of the aforementioned subcommittee:

Time and Date: 8:30 a.m.-3:30 p.m., EDT, August 11, 2017.

Place: CDC, Building 19, Rooms 245-246, 1600 Clifton Road, NE., Atlanta, Georgia 30329. This meeting will also be held by teleconference.

Status: Open to the public, limited only by the space available. The meeting room accommodates approximately 20 people. The public is welcome to participate during the public comment, which is tentatively scheduled from 2:45 p.m. to 2:55 p.m., EDT. To participate on the teleconference, please dial 866-917-2712 and enter code 9418625.

Purpose: The Subcommittee will provide advice to the ACD on strategies, future needs, and challenges faced by State, Tribal, Local and Territorial health agencies, and will provide guidance on opportunities for CDC through the ACD.

Matters for Discussion: The STLT Subcommittee members will discuss progress on implementation of ACD-adopted recommendations related to the health department of the future, other emerging challenges and how CDC can best support STLT health departments in the transforming health system.

The agenda is subject to change as priorities dictate.

Contact Person for More Information: José Montero, MD, Designated Federal Officer, STLT Subcommittee, ACD, CDC, 4770 Buford Highway, MS E70, Atlanta, GA 30341, Telephone (404) 498-0259, email: OSTLTSDirector@cdc.gov. Please submit comments to OSTLTSDirector@cdc.gov no later than August 4, 2017.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-13339 Filed 6-26-17; 8:45 am]

BILLING CODE 4163-18-P